FEDERAL COMMUNICATIONS COMMISSION

47 CFR Part 20

[WT Docket No. 94-102]

Wireless E911 Compatibility, Public Safety Answering Points; Correction

AGENCY: Federal Communications Commission.

ACTION: Proposed rule; correction.

SUMMARY: The Commission published a document in the Federal Register of July 16, 2001. The Commission now corrects the date for reply comments reflected in that document which sought comment on a petition for clarification and/or a declaratory ruling concerning the process by which a Public Safety Answering Point (“PSAP”) makes a valid request for Phase II enhanced 911 (“E911”) service from a wireless carrier as provided for in the Commission's rules.

DATES: Reply comments for the proposed rule (66 FR 36989) are due August 1, 2001.

FOR FURTHER INFORMATION CONTACT: Patrick Forster, 202-418-1310.

SUPPLEMENTARY INFORMATION: The Federal Communications Commission published a document seeking comment on a petition for clarification and/or a declaratory ruling regarding E911 Phase II procedures. In the FR Doc. 01-17785 (66 FR 36989, July 16, 2001) in column 3, correct the DATES caption to read as follows:

DATES: Comments are due on or before July 25, 2001, and reply comments are due on or before August 1, 2001.

Federal Communications Commission.
Kris Monteith,
Chief, Policy Division, Wireless Telecommunications Bureau.

[FR Doc. 01-18836 Filed 7-26-01; 8:45 am]

BILLING CODE 6712-01-P